DEPARTMENT OF LABOR

Employment and Training Administration

[TA-W-54,682]

Sony Electronics, Projection Television Picture Tube Division, Mt. Pleasant, PA; Notice of Termination of Investigation

Pursuant to section 221 of the Trade Act of 1974, as amended, an investigation was initiated on April 7, 2004, in response to a worker petition filed on behalf of workers at Sony Electronics, Projection Television Picture Tube Division, Mt. Pleasant, Pennsylvania.

An active certification covering the petitioning group of workers remains in effect (TA-W-40,757A). Consequently, further investigation in this case would serve no purpose; and the investigation has been terminated.

Signed in Washington, DC this 16th day of April, 2004.
Elliott S. Kushner,
Certifying Officer, Division of Trade Adjustment Assistance.

[FR Doc. E4-999 Filed 5-3-04; 8:45 am]

BILLING CODE 4510-13-P